Railroad Retirement Board

Sunshine Act Meeting; Notice of Public Meeting

Notice is hereby given that the Railroad Retirement Board will hold a meeting on October 25, 2017, 10:00 a.m. at the Board's meeting room on the 8th floor of its headquarters building, 844 North Rush Street, Chicago, Illinois, 60611. The agenda for this meeting follows:

Portion open to the public:

(1) Executive Committee Reports

The person to contact for more information is Martha P. Rico, Secretary to the Board, Phone No. 312-751-4920.

Dated: October 5, 2017.
Martha P. Rico,
For the Board, Secretary to the Board.

[FR Doc. 2017-21853 Filed 10-5-17; 11:15 am]

BILLING CODE 7905-01-P